DEPARTMENT OF HEALTH AND HUMAN SERVICES

Health Resources and Services Administration

Solicitation of Nominations for Membership To Serve on the Advisory Committee on Organ Transplantation

AGENCY: Health Resources and Services Administration (HRSA), Department of Health and Human Services (HHS).

ACTION: Request for nominations.

SUMMARY: HRSA is seeking nominations of qualified candidates to be considered for appointment as members of the Advisory Committee on Organ Transplantation (ACOT). ACOT shall: (1) Advise the Secretary, acting through the HRSA Administrator, on all aspects of organ donation, procurement, allocation, and transplantation, and on such other matters that the Secretary determines; (2) advise the Secretary on federal efforts to maximize the number of deceased donor organs made available for transplantation and to support the safety of living organ donation; (3) at the request of the Secretary, review significant proposed Organ Procurement and Transplantation Network (OPTN) policies submitted for the Secretary's approval to recommend whether they should be made enforceable; and (4) provide expert input to the Secretary on the latest advances in the science of transplantation, the OPTN's system of collecting, disseminating, and ensuring the validity, accuracy, timeliness, and usefulness of data, and additional medical, public health, patient safety, ethical, legal, financial coverage, social science, and socioeconomic issues that are relevant to transplantation.

Authority: As provided by 42 CFR 121.12, the Secretary established ACOT. ACOT is governed by the Federal Advisory Committee Act (FACA; 5 U.S.C. Appendix 2), which sets forth standards for the formation and use of advisory committees.

DATES: Written nominations for membership on the ACOT will be received continuously.

ADDRESSES: Nomination packages must be submitted to the Executive Secretary, ACOT, Healthcare Systems Bureau, HRSA, Room 08W60, 5600 Fishers Lane, Rockville, Maryland 20857. Federal Express, Airborne, UPS, etc., mail delivery should be addressed to Executive Secretary, Advisory Committee on Organ Transplantation, Healthcare Systems Bureau, HRSA, at the above address, or sent via email to: ACOTHRSA@hrsa.gov.

FOR FURTHER INFORMATION CONTACT: Robert Walsh, Executive Secretary, ACOT, at (301) 443-6839 or email rwalsh@hrsa.gov. A copy of the ACOT charter and list of current membership may be accessed through the ACOT website at https://www.organdonor.gov/about-dot/acot.html.

SUPPLEMENTARY INFORMATION: ACOT was established by the Amended Final Rule of the Organ Procurement and Transplantation Network (OPTN) (42 CFR part 121) and, by Public Law 92-463, was chartered on September 1, 2000. ACOT meets up to three times during the fiscal year.

Nominations: HRSA is requesting nominations for voting members to serve as Special Government Employees (SGEs) on ACOT. The Secretary appoints ACOT SGEs with the expertise needed to fulfill the duties of the committee. HRSA is seeking nominees knowledgeable in such fields as deceased and living organ donation, health care public policy, transplantation medicine and surgery, critical care medicine and other medical specialties involved in the identification and referral of donors, non-physician transplant professions, nursing, epidemiology, immunology, law and bioethics, behavioral sciences, economics, and statistics. HRSA is also seeking transplant candidates, transplant recipients, living organ donors, and family members of deceased and living organ donors to serve as members. SGEs shall not serve while they are also serving on the OPTN Board of Directors. Interested applicants may self-nominate or be nominated by another individual or organization.

Individuals selected for appointment to ACOT will be invited to serve for up-to 4 years. Members appointed as SGEs receive a stipend and reimbursement for per diem and travel expenses incurred for attending ACOT meetings and/or conducting other business on behalf of ACOT, as authorized by 5 U.S.C. 5703 of the Federal Travel Regulation for persons employed intermittently in government service.

The following information must be included in the package of materials submitted for each individual being nominated for consideration: (1) A letter of nomination stating the name, affiliation, and contact information for the nominee, the basis for the nomination (i.e., what specific attributes, perspectives, and/or skills does the individual possess that would benefit the workings of ACOT), and the nominee's field(s) of expertise; (2) a biographical sketch of the nominee; (3) the name, address, daytime telephone number, and email address at which the nominator can be contacted; and (4) a current copy of the nominee's curriculum vitae. Nomination packages may be submitted directly by the individual being nominated or by the person/organization recommending the candidate.

HRSA will try to ensure that ACOT membership of is balanced in terms of points of view represented. Accordingly, the Agency will consider for membership individuals from broad and diverse backgrounds, representing various geographic areas, gender, ethnic, and minority groups, as well as individuals with disabilities. Appointments shall be made without discrimination on the basis of age, ethnicity, gender, sexual orientation, or cultural, religious, or socioeconomic status.

Individuals selected to be considered for appointment will be required to provide detailed information regarding their financial holdings, consultancies, and research grants or contracts. Disclosure of this information is required for HRSA ethics officials to determine whether there is a conflict between the SGE's public duties as a member of ACOT and their private interests, including an appearance of a loss of impartiality as defined by federal laws and regulations, and to identify any required remedial action needed to address the potential conflict.

Maria G. Button,
Director, Division of the Executive Secretariat.

[FR Doc. 2019-13213 Filed 6-20-19; 8:45 am]

BILLING CODE 4165-15-P